DEPARTMENT OF ENERGY

Federal Energy Regulatory Commission

[Docket No. RP04-367-000]

Mojave Pipeline Company; Notice of Proposed Changes in FERC Gas Tariff

July 8, 2004.

Take notice that on July 1, 2004, Mojave Pipeline Company (Mojave) tendered for filing to its FERC Gas Tariff, Second Revised Volume No. 1, the following tariff sheets, with an effective date of August 1, 2004:

Tenth Revised Sheet No. 11

First Revised Sheet No. 200

Second Revised Sheet No. 212

First Revised Sheet No. 232

Second Revised Sheet No. 233

Second Revised Sheet No. 438

Mojave states that these tariff sheets are filed to discontinue the collection of the mandatory GRI surcharges effective August 1, 2004.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1554 Filed 7-13-04; 8:45 am]

BILLING CODE 6717-01-P